DEPARTMENT OF TRANSPORTATION

Federal Aviation Administration

14 CFR Part 39

[Docket No. FAA-2025-0214; Project Identifier MCAI-2024-00391-R]

RIN 2120-AA64

Airworthiness Directives; Airbus Helicopters Deutschland GmbH Helicopters

AGENCY: Federal Aviation Administration (FAA), DOT.

ACTION: Notice of proposed rulemaking (NPRM).

SUMMARY: The FAA proposes to adopt a new airworthiness directive (AD) for all Airbus Helicopters Deutschland GmbH Model MBB-BK 117 C-2 and MBB-BK 117 D-2 helicopters. This proposed AD was prompted by reports of significant wear of the control rod assembly and pitch link assembly spherical bearings. This proposed AD would require measuring the radial play of certain control rod assembly and pitch link assembly spherical bearings, reporting the results, and depending on the results, taking corrective action. These actions are specified in a European Union Aviation Safety Agency (EASA) AD, which is proposed for incorporation by reference. This proposed AD would also prohibit installing certain control rod assemblies and pitch link assemblies unless certain requirements are met. The FAA is proposing this AD to address the unsafe condition on these products.

DATES: The FAA must receive comments on this NPRM by April 14, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0214; or in person at Docket Operations between 9 a.m. and 5 p.m., Monday through Friday, except Federal holidays. The AD docket contains this NPRM, the mandatory continuing airworthiness information (MCAI), any comments received, and other information. The street address for Docket Operations is listed above.

Material Incorporated by Reference:

• For EASA material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-0214.

FOR FURTHER INFORMATION CONTACT: Michael Mueller, Aviation Safety Engineer, FAA, 1600 Stewart Avenue, Suite 410, Westbury, NY 11590; phone: (847) 294-7543; email: Michael.J.Mueller@faa.gov.

SUPPLEMENTARY INFORMATION:

Comments Invited

The FAA invites you to send any written relevant data, views, or arguments about this proposal. Send your comments to an address listed under the ADDRESSES section. Include “Docket No. FAA-2025-0214; Project Identifier MCAI-2024-00391-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Michael Mueller, Aviation Safety Engineer, FAA, 1600 Stewart Avenue, Suite 410, Westbury, NY 11590; phone: (847) 294-7543; email: Michael.J.Mueller@faa.gov. Any commentary that the FAA receives which is not specifically designated as CBI will be placed in the public docket for this rulemaking.

Background

EASA, which is the Technical Agent for the Member States of the European Union, has issued European Union Aviation Safety Agency AD 2024-0131, dated July 8, 2024 (EASA AD 2024-0131) (also referred to as the MCAI), to correct an unsafe condition on all Airbus Helicopters Deutschland GmbH Model MBB-BK117 C-2 and MBB-BK117 D-2 helicopters. The MCAI states there have been reports of significant wear of the spherical bearings of control rod assemblies and pitch link assemblies having part number 105-13122, B623M3001101, D623M3201101, or D623M3201102. This condition, if not detected and corrected, could lead to erroneous pitch and oscillations of the main rotor blades, and subsequent loss of control of the helicopter. The FAA is proposing this AD to address the unsafe condition on these products.

You may examine the MCAI in the AD docket at regulations.gov under Docket No. FAA-2025-0214.

Material Incorporated by Reference Under 1 CFR Part 51

The FAA reviewed EASA AD 2024-0131, which requires a one-time inspection of the control rod assembly and pitch link assembly spherical bearings for radial play and, depending on the results, measuring the radial play of the control rod assembly and pitch link assembly spherical bearings. Depending on the measurement results, EASA AD 2024-0131 requires replacing the control rod end. EASA AD 2024-0131 also requires reporting all measurement results to AH [Airbus Helicopters]. This material is reasonably available because the interested parties have access to it through their normal course of business or by the means identified in the ADDRESSES section.

FAA's Determination

These products have been approved by the aviation authority of another country and are approved for operation in the United States. Pursuant to the FAA's bilateral agreement with this State of Design Authority, it has notified the FAA of the unsafe condition described in the MCAI referenced above. The FAA is issuing this NPRM after determining that the unsafe condition described previously is likely to exist or develop on other products of these same type designs.

Proposed AD Requirements in This NPRM

This proposed AD would require accomplishing the actions specified in EASA AD 2024-0131, described previously, as incorporated by reference, except for any differences identified as exceptions in the regulatory text of this proposed AD and except as discussed under “Differences Between this Proposed AD and the MCAI.”

Additionally, this proposed AD would require taking corrective action in accordance with the material referenced in EASA AD 2024-0131, which specifies replacing the affected control rod end before further flight, within 50 hours time-in-service, or within 100 hours time-in-service, depending on the radial play measurement results.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2024-0131 by reference in the FAA final rule. This proposed AD would, therefore, require compliance with EASA AD 2024-0131 in its entirety through that incorporation, except for any differences identified as exceptions in the regulatory text of this proposed AD. Using common terms that are the same as the heading of a particular section in EASA AD 2024-0131 does not mean that operators need comply only with that section. For example, where the AD requirement refers to “all required actions and compliance times,” compliance with this AD requirement is not limited to the section titled “Required Action(s) and Compliance Time(s)” in EASA AD 2024-0131. Material referenced in EASA AD 2024-0131 for compliance will be available at regulations.gov under Docket No. FAA-2025-0214 after the FAA final rule is published.

Differences Between This Proposed AD and the MCAI

This proposed AD would not require inspecting the control rod assembly and pitch link assembly spherical bearings for play as specified in the MCAI, since that action is subjective and could vary from mechanic to mechanic. This proposed AD would require measuring the radial play of the control rod assembly and pitch link assembly spherical bearings instead. This proposed AD would also prohibit installing an affected control rod assembly or pitch link assembly unless the radial play of the assembly's two spherical bearings is measured and the radial play of each spherical bearing is equal to or less than 0.10 mm, whereas the MCAI does not require that installation limitation.

Interim Action

The FAA considers that this proposed AD would be an interim action. If final action is later identified, the FAA might consider further rulemaking then.

Costs of Compliance

The FAA estimates that this AD, if adopted as proposed, would affect 180 helicopters of U.S. registry. Labor costs are estimated at $85 per work-hour. Based on these numbers, the FAA estimates the following costs to comply with this proposed AD.

Measuring the axial play would take 1 work-hour and reporting the results would take 1 work-hour, for an estimated cost of $170 per helicopter and $30,600 for the U.S. fleet. If required, replacing a control rod or pitch link assembly would take 1 work-hour and parts would cost $1,650 for an estimated cost of $1,735 per control rod or pitch link assembly replacement.

Paperwork Reduction Act

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(f), 40113, 44701.

§ 39.13 [Amended]

2. The FAA amends § 39.13 by adding the following new airworthiness directive:

Airbus Helicopters Deutschland GmbH: Docket No. FAA-2025-0214; Project Identifier MCAI-2024-00391-R.

(a) Comments Due Date

The FAA must receive comments on this airworthiness directive (AD) by April 14, 2025.

(b) Affected ADs

None.

(c) Applicability

This AD applies to Airbus Helicopters Deutschland GmbH Model MBB-BK 117 C-2 and MBB-BK 117 D-2 helicopters, certified in any category.

Note 1 to paragraph (c): Helicopters with an MBB-BK 117 C-2e designation are Model MBB-BK 117 C-2 helicopters.

(d) Subject

Joint Aircraft System Component (JASC) Code 6230, Main Rotor Mast/Swashplate.

(e) Unsafe Condition

This AD was prompted by reports of significant wear of the control rod assembly and pitch link assembly spherical bearings. The FAA is issuing this AD to detect and address wear of the control rod assembly and pitch link assembly spherical bearings. The unsafe condition, if not addressed, could result in erroneous pitch and oscillations of the main rotor blades, and subsequent loss of control of the helicopter.

(f) Compliance

Comply with this AD within the compliance times specified, unless already done.

(g) Requirements

Except as specified in paragraph (h) of this AD: Comply with all required actions and compliance times specified in, and in accordance with European Union Aviation Safety Agency AD 2024-0131, dated July 8, 2024 (EASA AD 2024-0131).

(h) Exceptions to EASA AD 2024-0131

(1) Where EASA AD 2024-0131 requires compliance in terms of flight hours, this AD requires using hours time-in-service.

(2) This AD does not adopt paragraph (1) of EASA AD 2024-0131.

(3) Instead of complying with paragraph (2) of EASA AD 2024-0131, this AD requires “Within 100 hours time-in-service after the effective date of this AD, measure the radial play of the two spherical bearings of each affected part, as defined in EASA AD 2024-0131, in accordance with the instructions of the ASB, as defined in EASA AD 2024-0131.”

(4) Where paragraph (5) of EASA AD 2024-0131 specifies reporting measurement results to AH [Airbus Helicopters] within a certain compliance time. For this AD, report those measurement results at the applicable time specified in paragraph (h)(4)(i) or (ii) of this AD.

(i) If the measurement was done on or after the effective date of this AD: Submit the report within 30 days after the measurement.

(ii) If the inspection was done before the effective date of this AD: Submit the report within 30 days after the effective date of this AD.

(5) This AD does not adopt the “Remarks” section of EASA AD 2024-0131.

(i) Parts Installation Limitation

As of the effective date of this AD, do not install an affected part, as defined in EASA AD 2024-0131, on any helicopter unless the radial play of the two spherical bearings of that affected part is measured by following the actions required by paragraph (2) of EASA AD 2024-0131 and the radial play of each spherical bearing is equal to or less than 0.10 mm.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Michael Mueller, Aviation Safety Engineer, FAA, 1600 Stewart Avenue, Suite 410, Westbury, NY 11590; phone: (847) 294-7543; email: Michael.J.Mueller@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2024-0131, dated July 8, 2024.

(ii) [Reserved]

(3) For EASA material identified in this AD, contact EASA, Konrad-Adenauer-Ufer 3, 50668 Cologne, Germany; phone: +49 221 8999 000; email: ADs@easa.europa.eu; website: easa.europa.eu. You may find this EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 20, 2025.
Victor Wicklund,
Deputy Director, Compliance & Airworthiness Division, Aircraft Certification Service.

[FR Doc. 2025-03095 Filed 2-25-25; 8:45 am]

BILLING CODE 4910-13-P